DEPARTMENT OF LABOR

Employment and Training Administration

[NAFTA-04830]

Centis, Inc.; Formerly Known as 20th Century Plastics; Brea, CA; Amended Certification Regarding Eligibility To Apply for NAFTA-Transitional Adjustment Assistance

In accordance with section 250(A), subchapter D, chapter 2, Title II, of the Trade Act of 1974 (19 U.S.C. 2273), the Department of Labor issued a Certification for NAFTA Transitional Adjustment Assistance on August 16, 2001, applicable to workers of Centis, Inc., Brea, California. The notice was published in the Federal Register on August 23, 2001 (66 FR 44380).

At the request of the State agency, the Department reviewed the certification for workers of the subject firm. The workers are engaged in the production of thin sheer transparent plastic page protectors. The subject firm originally named 20th Century Plastics was renamed Centis, Inc. in January 2000. The State agency reports that some workers wages at the subject firm are being reported under the Unemployment Insurance (UI) tax account for Centis, Inc., formerly known as 20th Century Plastics, Brea, California.

Accordingly, the Department is amending the certification to properly reflect this matter.

The intent of the Department's certification is to include all workers of Centis, Inc., who were adversely affected by a shift in the production of thin sheer transparent plastic page protectors to Mexico.

The amended notice applicable to NAFTA-04830 is hereby issued as follows:

All workers of Centis, Inc., formerly known as 20th Century Plastics, Brea, California who became totally or partially separated from employment on or after April 24, 2000, through August 16, 2003, are eligible to apply for NAFTA-TAA under Section 250 of the Trade Act of 1974.

Signed at Washington, DC, this 29th day of November 2001.
Linda G. Poole,
Certifying Officer, Division of Trade Adjustment Assistance.

[FR Doc. 01-31142 Filed 12-17-01; 8:45 am]

BILLING CODE 4510-30-M